DEPARTMENT OF TRANSPORTATION

National Highway Traffic Safety Administration

Discretionary Cooperative Agreements To Support the Demonstration of a Model Impaired Driving Records Information System

AGENCY: National Highway Traffic Safety Administration (NHTSA), DOT.

ACTION: Announcement of discretionary cooperative agreements to support the demonstration of a model impaired driving records information system and to evaluate its efficacy and effectiveness.

SUMMARY: The National Highway Traffic Safety Administration (NHTSA) announces a discretionary cooperative agreement to solicit support for the demonstration of a model impaired driving records information system and to evaluate its efficacy and effectiveness. NHTSA is concerned that without a current and accurate record of driver information, it is difficult for law enforcement agencies, licensing agencies, the criminal justice system, and others to make sound decisions on how to respond to and take the appropriate action against drivers demonstrating unsafe behavior on the roadways. This cooperative agreement is to support the demonstration of a model impaired driving records information system and to evaluate its efficacy and effectiveness. NHTSA solicits applicable State agencies (i.e., law enforcement agencies, the judiciary (judges, probation officers and prosecutors), Motor Vehicle Administrations or Departments of Motor Vehicles (DMVs), highway safety offices, and others, or a consortium of the above.

DATES: Applications must be received no later than July 29, 2002, at 3 p.m., Eastern Standard Time.

ADDRESSES: Applications must be submitted to the National Highway Traffic Safety Administration, Office of Contracts and Procurement (NAD-30), ATTN: Rose Watson, 400 7th Street, SW., Room 5301, Washington, DC 20590. All applications must include reference to NHTSA Cooperative Agreement Program No. NTS-01-2-05088.

FOR FURTHER INFORMATION CONTACT: General administrative questions may be directed to Rose Watson, Office of Contracts and Procurement at (202) 366-9557 or by e-mail: rwatson@nhtsa.dot.gov. Programmatic questions should be directed to J. De Carlo Ciccel, Impaired Driving Division, NHTSA, NTS-11, 400 7th Street, SW., Washington, DC 20590, facsimile (202) 366-2766, or by e-mail: dciccel@nhtsa.dot.gov. Interested applicants are advised that no separate application packages exist beyond the contents of this announcement.

SUPPLEMENTARY INFORMATION:

Background

The mission of the National Highway Traffic Safety Administration (NHTSA) is to reduce deaths, injuries, and economic losses resulting from motor vehicle crashes. Each year, more than 1.4 million drivers are arrested for alcohol-impaired driving in the U.S. States bear the primary responsibility for enacting impaired driving laws and enforcing, adjudicating, and imposing sanctions against offenses. The driver license and licensing process provides a basis for driver control measures. During the 1950's, all States implemented an examination with road test as a condition of obtaining a driver license. License actions have become a central component of efforts to deter drinking and driving. Driver license sanctions are now almost universally used either administratively or through the judicial system. The effects of license suspension/revocation are short and long-term. The loss of the offender's privilege to drive by suspending or revoking a license for driving while intoxicated (DWI) has proven successful in reducing drinking and driving behavior. Although vehicle-based sanctions (e.g., ignition interlock devices and the forfeiture or impoundment of offenders' vehicles) hold great promise as deterrent measures, States rely heavily on removal of the offender's license as a primary penalty for driving under the influence (DUI), because it is the most cost-effective sanction available, particularly when applied to first-time offenders.

There are also instances in some States where license withdrawal is required as a penalty for offenses that lie outside the ambit of typical motor vehicle laws (e.g., use of a motor vehicle in the commission of a felony, motor vehicle theft, discharging a firearm from a motor vehicle, committing an immoral act in which a motor vehicle was used, advocating the overthrow of the government, defacing public or private property, non-payment of child support, withdrawal from high school, and illegal use of alcohol and other drugs). Often these violations and other driver history information are not transmitted to relevant agencies within state jurisdictions or between the States. This omission hinders roadside enforcement, the identification of problem drivers, and ultimately, the safety of others.

While the transmission of this type of information is critical, it must be timely, accurate, reliable, and complete to be effective. Timely and accurate information is essential to the adjudication process. Decisions regarding licensing actions and penalties need to be based on an individual's complete driving history. Persons previously convicted of a variety of traffic offenses and violations should be sanctioned differently than those with no or otherwise minor traffic offenses. A fully developed driver history records information system for impaired driving would be a powerful tool for States to assist in developing an effective system of deterrence for the impaired driver. Yet, few States have such a system. For example, delays in reporting or exchanging information regarding the disposition of traffic citations between the courts and licensing agencies commonly last six months or longer—sufficient time for a driver to commit additional traffic offenses. “At-risk” drivers continue to drive virtually undetected, putting others at risk of death, injury, or loss of property.

NHTSA is concerned that without a current and accurate record of driver information, it is difficult for law enforcement agencies, licensing agencies and others in the criminal justice system to make sound decisions on how to respond to drivers demonstrating unsafe behavior on the roadways. To correct this deficiency, NHTSA developed a model for an Impaired Driving Records Information System and an implementation guide that allows for accurate, reliable, and timely exchange and transmission of data between the law enforcement agencies, the courts, and the DMVs. In addition, model requirements identify core and essential data elements, relevant records, and performance standards to receive, store, and transmit data.

Many states have some form of a judiciary-based citation or case-based impaired driving tracking system. However, as states have increasingly enacted administrative license and vehicle sanctions for impaired driving, DMVs have taken on an increasingly important role in managing these sanctions through the driver licensing systems. With the advent of electronic citation systems and technologies that allow immediate access by patrol officers to driver license and vehicle registration information, enforcement agencies also have an increasingly important role in developing and managing an Impaired Driving Records Information System. The system includes impaired driving-related information that is collected and managed by the system's stakeholders. Key system stakeholders in all states include law enforcement agencies, the criminal justice system (i.e., judges, probation officers, and prosecutors), DMVs, and highway safety offices. Within most states, other stakeholders may include treatment and correctional agencies, which may also maintain offender-based information systems. A model was developed for implementation within and among states for use as a collective resource and to curb the installation of costly and duplicative record systems.

The project under this cooperative agreement encompasses the totality of a State's efforts to generate, transmit, store, update, link, manage, report, and retrieve information on impaired driving offenders and citations. Through the use of up-to-date technology and cooperative arrangements between the stakeholders, a Model Impaired Driving Records Information System provides for electronic access to driver history and vehicle information, electronic collection of data, electronic transmission of data between stakeholders, and on-line access to complete, accurate, and timely information on impaired driving cases. The system must provide access, as required, by all key stakeholders and address their needs.

Objective

The objective of this demonstration project is for States to implement a Model Impaired Driving Records Information System (for model requirements, see section titled: Model Impaired Driving Records Information System Requirements) and evaluate its efficacy and effectiveness. A Model Impaired Driving Records Information System enables a State to effectively perform the following functions:

(1) Appropriately identify, charge and sanction impaired driving offenders, based on their driving history;

(2) Manage impaired driving cases from arrest through the completion of court and administrative sanctions;

(3) Identify target populations and trends, evaluate countermeasures, and identify problematic components of the overall impaired driving control system;

(4) Provide stakeholders with adequate and timely information necessary to fulfill their responsibilities; and

(5) Reduce administrative costs for system stakeholders and increase system efficiencies. While this effort is directed at impaired drivers, it is understood that data on the behavior of all problem drivers will result from use of such a system.

Availability of Funds and Period of Support

A total of $1.45 million is currently available to support demonstration efforts during the first year of performance. The government anticipates the award of up to 3 cooperative agreements for a total performance period not to exceed 3 years, subject to the availability of funds. Obligation of funds for the second and third years will be accomplished under a separate action. Offerors should submit projects and associated budgets for each twelve-month cycle. Individual awards may range from $100 thousand to a maximum of $1,450,000, if only one award is made.

NHTSA Involvement

NHTSA will be involved in all activities undertaken as part of the cooperative agreement program and will:

1. Provide a Contracting Officer's Technical Representative (COTR) to participate in the planning and management of each cooperative agreement and to coordinate activities between the Grantee and NHTSA.

2. Provide information and technical assistance from other government sources and available resources as determined appropriate by the COTR.

3. Serve as a liaison between NHTSA Headquarters, Regional Offices, and other (Federal, State, and local agencies) interested in a Model Impaired Driving Records Information System, and the grantee as appropriate.

4. Stimulate the transfer of information among cooperative agreement recipients and others engaged in alcohol program activities, specifically designed to address driver history records and impaired driving information systems.

5. Review and approve draft and final versions of the deliverables.

Eligibility Requirements

Applicants are limited to key State agencies (e.g., law enforcement agencies, Department of Motor Vehicle Administrations, highway safety offices, and other applicable State agencies or a consortium of the above). To be deemed eligible, each application package must include a letter of endorsement from the Governor's Highway Safety Representative and a letter of cooperation and participation from key system stakeholders, including at a minimum: the State Supreme Court Administrator; the Administrator of the DMV; the Chief Executive of the State Police or Highway Patrol agencies; and the President of the State's Association of Chief's of Police and/or the President of the State's Sheriff's Association. The State Police Chief's Association and Sheriff's Association should agree to solicit the support of the local law enforcement agencies to also participate is this project. Interested applicants are advised that no fee or profit will be allowed under this cooperative agreement program.

Application Procedures

Each applicant must submit one original and three copies of the application package to: NHTSA, Office of Contracts and Procurement (NAD-30), ATTN: Rose Watson, 400 7th Street SW., Room 5301, Washington, DC 20590. Submission of two (2) additional copies will expedite processing, but is not required. The application may be single spaced, must by typed on one side of the page only, and must include reference to NHTSA Cooperative Agreement No. NTS-01-2-05088. Unnecessarily elaborate applications beyond what is sufficient to present a complete and effective response to this invitation are not desired. Only complete application packages received on or before due date, (See DATE above) will be considered. Only one award per State will be made.

Application Contents

1. The application package must be submitted with OMB Standard Form (SF) 424 (Rev. 4-88, including 424A and 424B) Application for Federal Assistance, with the required information filled in and certifications and assurances signed. OMB forms are available for downloading and printing on the Internet at: www.whitehouse.gov/OMB/grants/index.html site. While the SF 424A deals with budget information, and Section B identifies Budget Categories, the available space does not permit a level of detail sufficient to provide meaningful evaluation of the proposed total costs. A supplemental sheet shall be provided which presents a detailed breakdown of the proposed costs, as well as any costs which the applicant indicates will be contributed locally as matching funds, in support of the demonstration project.

2. The application shall include a project narrative statement which provides the following information in separately labeled sections:

(a) A summary of State DWI laws and processes;

(b) The identity of major stakeholders in the State's impaired driving system (include the court system and indicate whether it is unified or not). Describe each stakeholder's existing system for collecting and transmitting impaired driving information, including system components and capabilities, its strengths, deficiencies, and any improvements planned or underway.

(c) A description of the current degree of uniformity within and across agencies in collecting and managing information, (i.e., among the courts, enforcement agencies, and DMVs). Describe the existing citation information flow-process from law enforcement to the prosecutors/courts to the State DMV. This must include identification of specific problems that delay or hinder the citation information flow-process. Include whether or not all or some enforcement agencies use a uniform traffic ticket (UTT) or uniform citation form (i.e., either an identical form or a form with exactly the same data elements). If different citation forms are used, describe the differences and the impact those differences might have on tracking citations through the court system(s) to the DMVs. Similarly, include whether or not all courts or some courts use the same forms and/or terminology.

(d) Evidence of any systematic assessment or documentation of the impaired driving information system, including a Traffic Records Assessment, and any long-term improvement plans.

(e) A description of the extent to which the State currently meets the ten specific features of the model system and challenges and/or barriers.

(f) A detailed project plan, including timetables and milestones. Describe the proposed model improvements/innovations in detail and explain what percent of the system will be affected (e.g., all courts, half of enforcement agencies, etc.). Explain how each model specific feature will be addressed by each system improvement/innovation. Explain how the proposal fits into the State's long-term plans for improving information systems.

(g) A list of specific innovations to hardware or software and methods to be employed, including costs.

(h) A designated lead agency and project director. The application shall identify the proposed project director and any personnel considered critical to the successful documentation of the proposed project. Describe the roles and responsibilities of each and describe the roles and responsibilities of each stakeholder agency. Specify a mechanism for ensuring participation or buy-in of the stakeholders throughout the project (e.g., an interagency advisory board). The proposed level of effort in performing various activities shall also be identified. A staffing plan and resume for all key project personnel shall be included in the application. Briefly outline the organizational resources and specify funds the applicant will draw upon, and how the applicant will provide the project management capability and personnel expertise to successfully perform the activities states herein. Include staffing titles and a 1-2 sentence description of the position duties. The budget should segregate documentation project costs from implementation and evaluation costs, and how the funds should be allocated. For each activity, identify costs by direct labor with a breakdown of costs by proposed staffing; direct materials/equipment with a breakdown of major cost items; total travel costs with an explanation of the relationship to the project; implementation and evaluation costs; and overhead. Clearly identify any financial resources by the applicant organization or other supporting organizations to support the project.

(i) Letters of endorsement from the key stakeholder agencies that clearly state their buy-in and cooperation. Include the DMV, the State Supreme Court Administrators (or lower court equivalent), the Chief Executive of the State Police or Highway Patrol agencies, and/or the President of the State's Association of Chief's of Police and the President of the State's Sheriff's Association.

(j) Evidence that the State has had a history of supporting improvements to the impaired driving information system and using up-to-date technologies and innovations.

Model Impaired Driving Records Information System Requirements

The Model Impaired Driving Records Information System that applicants are expected to implement under this program contain elements that provide for the following five functions: (1) Tracking each impaired driving offender from arrest through dismissal or sentence completion; (2) providing aggregate data, for example, numbers of arrests, convictions, BAC distribution, and offender demographics; (3) conforming to national standards and system performance standards; (4) ensuring that data is accurate, complete, and reliable; and (5) maintaining quality control and security features that will prevent core and essential data elements and/or impaired driving records from being compromised or corrupted.

The model system has the following ten specific features.

(1) Statewide coverage (i.e., DMV, all courts adjudicating impaired driving cases, all law enforcement agencies).

(2) “Real-time” electronic access—the ability of law enforcement officers, DMVs, and the courts, including judges and prosecutors, to directly access driver license history information (e.g., license history and current status; vehicle registration status; applicable criminal history, and outstanding warrants) intrastate and potentially interstate, without relying on a dispatcher or other intermediary.

(3) An electronic citation system that is used by officers at the roadside and/or at the police station and that supports the use of bar-code, magnetic striping, or other technologies to automatically capture driver license and registration information on the citation and other standard legal forms, such as an implied consent form.

(4) A citation tracking system that accepts electronic citation data (and other standard legal forms) from enforcement agencies; provides real-time tracking from the distribution of citation forms, to issuance by police officers, through final adjudication, and the imposition and completion of administrative and judicial sanctions; provides access by citation number and by offender; and allows on-line access by stakeholders.

(5) Immediate electronic transmission of data from enforcement agencies and the judicial process to the driver license system to permit immediate and automatic imposition of administrative sanctions, if applicable, and the recordation of convictions on the driver license.

(6) Electronic reporting to the courts and DMVs by probation, treatment, or correctional agencies, as applicable, with regard to compliance or non-compliance with administrative or court sanctions.

(7) Linkage of information from the incident/case tracking system and the offender-based DMV license, treatment, and probation systems to develop a complete record for each offender, including driver history.

(8) Timely access by all stakeholders, including the highway safety office, periodic to statistical reports needed to support agency operations and to manage the impaired driving control system, identify trends, and support problem identification, policy development, and evaluation of countermeasures.

(9) Flexibility to include additional data and technological innovations.

(10) Compliance with national standards developed by, for example, the American Association of Motor Vehicle Administrators (AAMVA) and the National Crime Information Center (NCIC).

The core data elements in the system include the following:

• Driver identifying information to include: name, address, driver license number, date of birth, and physical characteristics (i.e., gender, height, eye color, etc.),

• Driver license class and endorsements, status (valid, suspended, revoked, cancelled, hardship, commercial driver license (CDL), etc.), and restrictions,

• Vehicle license plate number and state of registration, status (e.g., registered, impounded, stolen), Vehicle Identification Number (VIN), and DOT carrier identification number for commercial vehicles,

• Relevant criminal history,

• Outstanding warrants and other administrative actions,

• In accordance with state policies for posting and retaining information on the driver record, offender's history or prior non-impaired driving traffic convictions and associated penalties, impaired driving convictions and/or pre-conviction administrative actions and associated penalties, crashes, current accumulated license penalty points, and administrative license actions,

• Outstanding citations or arrests,

• Arrest/citation information,

• citation number(s), date, time of day, roadway location and jurisdiction,

• arresting officer (LEA identifier),

• violation(s) charged,

• crash involvement, severity, number of passengers,

• alcohol test result: refusal, alcohol concentration (blood, breath, or other), or missing,

• drug test result: refusal, drugs detected, or missing,

• results of Standardized Field Sobriety Tests and other field tests, as applicable.

• Pre-conviction administrative license and vehicle penalties imposed,

• type and length of sanction,

• date imposed,

• Prosecution/adjudication data,

• court case identifier and specific identifiers for the court, judge, and jurisdiction,

• date of arraignment,

• date of disposition,

• completion or non-completion of pre-conviction or pre-sentence deferral program (court deferred sentencing or conviction pending offender's completion of alcohol or other drug treatment program and/or other conditions),

• final disposition of charge (dismissed, acquitted, plea to reduced charge (specify), convicted of original charge after trial, diversion program, adjournment in contemplation of dismissal, pending, etc.),

• court penalties imposed (jail sentence, fines and penalties, probation, substance abuse assessment/treatment, ignition interlock device, community service, house arrest, dollar amount of fines, fees, and for victim restitution, vehicle forfeiture, license revocation or suspension, and other),

• probation report and/or pre-sentence assessment information, if applicable by law,

• Subsequent violations, including driving while suspended/revoked, during license suspension period and resulting penalties,

• Completion of treatment/assessment (start and finish dates),

• Completion/non-completion of court and/or administrative sanctions,

• Penalties for failure to complete court and/or administrative sanctions or violations of probation, including license suspension/revocation,

• Whether license reinstated and if so, date of reinstatement,

A Model Impaired Driving Information system represents a collective effort involving DMVs, law enforcement agencies, the courts, and other agency stakeholders to ensure each organization has ready access to the information needed to plan and manage its work effectively and efficiently. The system also enables the highway safety office, the legislature, and other legitimate users in the highway safety community to obtain periodic and special statistical reports on the impaired driving system. The following are examples of the types of data that would be periodically generated or available on an ad hoc basis through a user-friendly protocol to the extent that state laws and policies permit:

• Referral rates to treatment statewide, by jurisdiction, and court and rate of treatment completion/non-completion,

• Conviction rate, BAC refusal rate, age and gender of offender statewide and by jurisdiction,

• Number of first and repeat offenders statewide and by jurisdiction,

• BAC distribution statewide and by jurisdiction, enforcement agency, etc.,

• Plea bargain rates statewide and by jurisdiction,

• Sentence or adjudication diversions/deferrals, if applicable,

• Referrals to treatment by first-time and repeat offenders,

• Numbers of license and vehicle sanctions imposed by DMV

• Average time from arrest to first court appearance, conviction, and sentencing, statewide, by jurisdiction, and by court

• Numbers of warrants issued for failure to appear, etc., statewide and by jurisdiction

• Subsequent violations, including driving while suspended/revoked, and resulting penalties during suspension/revocation

Review Procedures, Criteria and Evaluation Factors

Upon receipt of the application package, each package will initially be reviewed to ensure eligibility and that the application contains all of the items specified in the Application Contents Section of this announcement. An Evaluation Committee using the criteria outlined below will then review applications.

The application package must concisely address the following criteria:

1. The history of improvements to the impaired driving information system and the use of up-to-date technological innovations. (5 percent)

2. The range of DWI laws and systems (e.g., unified versus non unified court system, criminal versus civil offense, rural versus urban, complicated versus simple laws). Include range of DWI laws, systems, and innovative approaches proposed. (15 percent)

3. The extent to which proposed innovations leverage/build upon/complement existing efforts. (10 percent)

4. The extent to which technological innovations can be transferred to other states. (5 percent)

5. The extent to which the State has documented and assessed current system(s) and developed short and long-term plans for improvement. This includes but is not limited to: (a) how citations are provided to the court system (i.e., mailed, hand-carried, faxed, electronic transfer, etc.); and (b) the approximate length of time (for 90% of drivers charged with alcohol-related driving offenses) from citation issuance or arrest through adjudication, from adjudication to the State DMV, then posted to the driver's license record and made available to law enforcement and the court system. (15 percent)

6. How technological innovations will improve system(s). (5 percent)

7. How the system improvements meet the five functions and ten features of the model system, described above. (20 percent)

8. The proposal's feasibility, realism, and the ability of the lead agency, with stakeholder cooperation and buy-in, to implement a statewide model impaired driving information system. (10 percent)

9. The clarity and soundness of the project management structure, budget and the delineation of partners and stakeholders role in the project. The project personnel will be reviewed in terms of qualifications and experience. The staffing of the project should be adequate to manage and implement the project. Clearly identify estimated costs and provide sound rationale for the proposed budget. This includes how funding will be used to improve the existing system, including but not limited to existing citation information flow problems, if indicated. Financial contributions from stakeholder sources will be evaluated. Among equally-rated proposals, preference will be given to applicants with matching state funds. (15 percent)

Terms and Conditions of Award

1. Prior to award, each grantee must comply with the certification requirements of 49 CFR part 20, Department of Transportation New Restrictions on Lobbying, and 49 CFR part 29, Debarment of Transportation government-wide Debarment and Suspension (Non-procurement) and Government-wide Requirements for Drug Free Workplace (Grants).

2. Reporting Requirement and Deliverables:

a. Quarterly Progress Reports should include a summary of the previous quarter's activities and accomplishments, as well as the proposed activities for the upcoming quarter. Any decisions and actions required in the upcoming quarter should be included in the report. The grantee shall provide a progress report to the Contracting Office's Technical Representative (COTR) every ninety (90)-days following date of award, except when a final report is due.

b. Project Work Plan, Implementation, and Evaluation Plan, with timelines to include critical path, major and minor milestones, and system checks. The grantee shall submit project work plan, implementation plan and evaluation plans with timelines incorporating comments received from the NHTSA COTR no more than 2 months after award of this agreement. This involves identification and resolution of potential technical problems and critical issues related to successful completion of this project. Briefly outline a specific work plan to document your project's history, how to implement a similar project, and a plan to evaluate its efficacy and effectiveness to include lessons-learned, best practices, organizational support, and costs. This outline should identify specific tasks required to accomplish the goals and objectives of the project, detailing how the system will be documented for replication by another agency. The specific innovations, interventions, and activities must be included in the work plan.

c. Draft Final Report. The grantee shall prepare a Draft Final Report that includes a description of the implemented project or system, partners, system design and innovations, evaluation methodology and findings, and recommendations for system improvements. In terms of ability to transfer the technology or the system to another State, it is important to know what worked and did not work, under what circumstances, and what can be done to avoid potential problems in future projects. The grantee shall submit the Draft Final Report to the COTR 90 days prior to the end of the performance period. The COTR will review the draft report and provide comments to the grantee within 30 days of receipt of the document.

d. Final Report. The grantee shall revise the Draft Final Report to reflect the COTR's comments. The revised final report shall be delivered to the COTR one (1) month before the end of the performance period. The grantee shall supply the COTR one-camera ready version of the document, as printed and one copy, on appropriate media (diskette, etc.) of the document in the original program format that was used for the printing process. Some documents require several different original program languages (e.g., PageMaker for general layout and design, PowerPoint for charts, Project for project timeline management, and another for photographs, etc.). Each of these component parts should be available on disk, properly labeled with the program format and the file names. For example, PowerPoint files should be clearly identified by both a descriptive name and file name (e.g., 2000 Fatalities—chart1.ppt). The document must be completely assembled with all colors, charts, sidebars, photographs, and graphics. This can be delivered to NHTSA on a standard 1.44 floppy diskette (for small documents) or on any appropriate archival media (for larger documents) such as a CD ROM, TR-1 Mini cartridge, Syquest disk, etc. The grantee shall provide four additional hard copies of the final document.

e. Briefings, Presentations and System Demonstrations. The Grantee shall make a briefing and system demonstration to NHTSA officials and other invited parties in Washington, DC at the completion of the project. The Grantee shall make a presentation concerning the project at a minimum of one national meeting (e.g., American Association of Motor Vehicle Administrators (AAMVA) or the National Association of Governor's Highway Safety Representatives (NAGHSR)). The Grantee shall prepare an article and submit it for publication in a professional journal. An initial briefing, an interim briefing approximately midway through the period of performance, in addition to a final briefing, may be required. All articles, briefings, and presentations/demonstrations will be submitted to NHTSA initially in draft format for review and comment. The Grantee shall submit drafts to the COTR 60 days before the event date or publication submission date. The COTR will review the draft report and provide comments to the Grantee within 15 calendar days of receipt of the documents.

3. During the effective performance period of cooperative agreements awarded as a result of this announcement, the agreement shall be subject to the National Highway Traffic Safety Administration's General Provisions for Assistance Agreements, dated July 1995.

Rose A. McMurray,
Associate Administrator for Traffic Safety Programs.

[FR Doc. 02-14750 Filed 6-11-02; 8:45 am]

BILLING CODE 4910-12-P